DEPARTMENT OF ENERGY

Federal Energy Regulatory Commission

[Docket No. EG02-30-000, et al.]

Blythe Energy, LLC, et al.; Electric Rate and Corporate Regulation Filings

November 20, 2001.

Take notice that the following filings have been made with the Commission:

1. Blythe Energy, LLC

[Docket No. EG02-30-000]

Take notice that on November 14, 2001, Blythe Energy, LLC (the Applicant), with its principal office at The Grace Building, 41st Floor, 1114 Avenue of the Americas, New York, NY 10036-7790, filed with the Federal Energy Regulatory Commission (Commission) an application for determination of exempt wholesale generator status pursuant to part 365 of the Commission's regulations.

Applicant states that it is a Delaware limited liability company engaged directly and exclusively in the business of developing and operating an approximately 520 MW generating facility located in Blythe, California. Electric energy produced by the facility will be sold at wholesale or at retail exclusively to foreign consumers.

Comment date: December 11, 2001, in accordance with Standard Paragraph E at the end of this notice. The Commission will limit its consideration of comments to those that concern the adequacy or accuracy of the application.

2. Southwest Power Pool, Inc.

[Docket No. ER02-57-000]

Take notice that on November 16, 2001, Southwest Power Pool, Inc. (SPP) submitted a notice of withdrawal of filing with the Federal Energy Regulatory Commission (Commission) a service agreement for Firm Point-to-Point Transmission Service with Southwestern Public Service Marketing.

A copy of the withdrawal filing was served on Southwestern Public Service Marketing as well as all parties included on the Commission's official service list established in this proceeding.

Comment date: December 7, 2001, in accordance with Standard Paragraph E at the end of this notice.

3. Calpine Construction Finance Company, L.P.

[Docket No. ER02-166-000]

Take notice that on November 16, 2001, Calpine Construction Finance Company, L.P. (CCFC) filed with the Federal Energy Regulatory Commission (Commission) a Notice of Withdrawal of the amended Direct Power Transaction Confirmation under its market-based rate schedule in the above-referenced docket number, filed on October 24, 2001.

Comment date: December 7, 2001, in accordance with Standard Paragraph E at the end of this notice.

4. Carolina Power & Light Company

[Docket No. ER01-2301-002]

Take notice that on November 16, 2001, Carolina Power & Light Company (CP&L) submitted its compliance filing in the above-captioned proceeding in accordance with Ordering Paragraph C of Carolina Power & Light Company, 97 FERC ¶ 61,063 (October 19, 2001).

Copies of the filing were served upon the official service list in this proceeding.

Comment date: December 7, 2001, in accordance with Standard Paragraph E at the end of this notice.

5. Carolina Power & Light Company

[Docket No. ER01-2301-002]

Take notice that on November 16, 2001, Carolina Power & Light Company (CP&L) submitted its compliance filing in the above-captioned proceeding in accordance with Ordering Paragraph C of Carolina Power & Light Company, 97 FERC ¶ 61,063 (October 19, 2001).

Copies of the filing were served upon the official service list in this proceeding.

Comment date: December 7, 2001, in accordance with Standard Paragraph E at the end of this notice.

6. Southern Company Services, Inc.

[Docket No. ER01-602-012]

Take notice that on November 16, 2001, in compliance with the Federal Energy Regulatory Commission (Commission) letter Order dated October 17, 2001 Southern Company Services, Inc. (SCS), as agent for Alabama Power Company, Georgia Power Company, Gulf Power Company, Mississippi Power Company and Savannah Electric and Power Company (collectively, Southern Companies), tendered for filing rate schedules compliant with Commission Order No. 614 for certain Southern Companies Rate Schedules. These Rate Schedules are Mississippi Power Company First Revised Rate Schedule FERC No. 145 and Southern Operating Companies First Revised Rate Schedule FERC No. 78.

Comment date: December 7, 2001, in accordance with Standard Paragraph E at the end of this notice.

7. Coral Canada US, Inc.

[Docket No. ER01-3017-001]

Take notice that on November 16, 2001, Coral Canada US, Inc. (Seller) filed with the Federal Energy Regulatory Commission (Commission) an amendment to its petition filed on September 5, 2001, which requested the Commission for an order: (1) Accepting Seller's proposed FERC rate schedule for market-based rates; (2) granting waiver of certain requirements under subparts B and C of part 35 of the regulations, and (3) granting the blanket approvals normally accorded sellers permitted to sell at market-based rates.

Comment date: December 7, 2001, in accordance with Standard Paragraph E at the end of this notice.

8. Inter-Power/AhlCon Partners, L.P.

[Docket No. QF87-632-006]

Take notice that on November 13, 2001, Inter-Power/AhlCon Partners, L.P., 2591 Wexford-Bayne Road, Suite 204, Sewickley, PA 15143 submitted for filing an application for Commission recertification as a qualifying small power production facility pursuant to section 292.207(b) of the Commission's regulations. No determination has been made that the submittal constitutes a complete filing.

Comment date: December 13, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-29616 Filed 11-28-01; 8:45 am]

BILLING CODE 6717-01-P